NUCLEAR REGULATORY COMMISSION

[NRC-2011-0006]

Sunshine Act Meeting Notice

AGENCY HOLDING THE MEETINGS: Nuclear Regulatory Commission.

DATES: Weeks of May 9, 16, 23, 30, June 6, 13, 20, 2011.

PLACE: Commissioners' Conference Room, 11555 Rockville Pike, Rockville, Maryland.

STATUS: Public and Closed.

Week of May 9, 2011

Thursday, May 12, 2011

9:30 a.m.—Briefing on the Progress of the Task Force Review of NRC Processes and Regulations Following the Events in Japan (Public Meeting) (Contact: Nathan Sanfilippo, 301-415-3951).

This meeting will be webcast live at the Web address— http://www.nrc.gov.

Week of May 16, 2011—Tentative

There are no meetings scheduled for the week of May 16, 2011.

Week of May 23, 2011—Tentative

Friday, May 27, 2011

9 a.m.—Briefing on Results of the Agency Action Review Meeting (AARM) (Public Meeting) (Contact: Rani Franovich, 301-415-1868).

This meeting will be webcast live at the Web address— http://www.nrc.gov.

Week of May 30, 2011—Tentative

Thursday, June 2, 2011

9:30 a.m.—Briefing on Human Capital and Equal Employment Opportunity (EEO) (Public Meeting) (Contact: Susan Salter, 301-492-2206).

This meeting will be webcast live at the Web address— http://www.nrc.gov.

Week of June 6, 2011—Tentative

Monday, June 6, 2011

10 a.m.—Meeting with the Advisory Committee on Reactor Safeguards (ACRS) (Public Meeting) (Contact: Tanny Santos, 301-415-7270).

This meeting will be webcast live at the Web address— http://www.nrc.gov.

Week of June 13, 2011—Tentative

Thursday, June 16, 2011

9:30 a.m.—Briefing on the Progress of the Task Force Review of NRC Processes and Regulations Following Events in Japan (Public Meeting) (Contact: Nathan Sanfilippo, 301-415-3951).

This meeting will be webcast live at the Web address— http://www.nrc.gov.

Week of June 20, 2011—Tentative

There are no meetings scheduled for the week of June 20, 2011.

* * * * *

* The schedule for Commission meetings is subject to change on short notice. To verify the status of meetings, call (recording)—(301) 415-1292. Contact person for more information: Rochelle Bavol, (301) 415-1651.

* * * * *

The NRC Commission Meeting Schedule can be found on the Internet at: http://www.nrc.gov/public-involve/public-meetings/schedule.html.

* * * * *

The NRC provides reasonable accommodation to individuals with disabilities where appropriate. If you need a reasonable accommodation to participate in these public meetings, or need this meeting notice or the transcript or other information from the public meetings in another format (e.g., Braille, large print), please notify Bill Dosch, Chief, Work Life and Benefits Branch, at 301-415-6200, TDD: 301-415-2100, or by e-mail at william.dosch@nrc.gov. Determinations on requests for reasonable accommodation will be made on a case-by-case basis.

* * * * *

This notice is distributed electronically to subscribers. If you no longer wish to receive it, or would like to be added to the distribution, please contact the Office of the Secretary, Washington, DC 20555 (301-415-1969), or send an e-mail to darlene.wright@nrc.gov.

Dated: May 4, 2011.
Richard J. Laufer,
Technical Coordinator, Office of the Secretary.

[FR Doc. 2011-11350 Filed 5-5-11; 4:15 pm]

BILLING CODE 7590-01-P